DEPARTMENT OF COMMERCE

U.S. Census Bureau

Proposed Information Collection; Comment Request; 2016-2018 Business R&D and Innovation Surveys

AGENCY: U.S. Census Bureau, Commerce.

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: To ensure consideration, written or on-line comments must be submitted on or before November 7, 2016.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Michael Flaherty, U.S. Census Bureau, HQ-6H149, 4600 Silver Hill Rd., Suitland, MD 20746 (301) 763-7699 (or via the internet at michael.j.flaherty@census.gov).

SUPPLEMENTARY INFORMATION:

I. Abstract

The U.S. Census Bureau, with support from the National Science Foundation (NSF), plans to conduct the Business R&D and Innovation Survey (BRDIS) for the 2016-2018 survey years. The BRDIS covers all domestic, non-farm, for-profit businesses with at least one paid employee. The BRDIS provides the only comprehensive data on research and development costs and detailed expenses by type and industry.

The Census Bureau has conducted an R&D survey since 1957 (the Survey of Industrial Research and Development (SIRD) from 1957-2007 and BRDIS from 2008-present), collecting primarily financial information on the systematic work companies undertake to discover new knowledge or use existing knowledge to develop new or improved goods and services.

Prior to 2016, only companies with a minimum of five employees were in scope to the BRDIS. Beginning in 2016, the BRDIS will increase it's scope to include microbusinesses, or firms with fewer than five employees. Sampled companies in this target population will receive a BRDI-M form. Companies with five or more employees will receive the standard form (BRDI-1) or if selected for the screener questionnaire, the BRDI-1(S) form. Expanding the coverage of the BRDIS will help policymakers address issues such as how small businesses are affected by the rapid changes in our economy and what the smallest businesses are doing to be competitive.

The 2016-2018 BRDIS will continue to collect the following types of information:

• R&D expense based on accepted accounting standards.

• Worldwide R&D of domestic companies.

• Business segment detail.

• R&D-related capital expenditures.

• Detailed data about the R&D workforce.

• R&D strategy and data on the potential impact of R&D on the market.

• R&D directed to application areas of particular national interest.

• Data measuring innovation, intellectual property protection activities and technology transfer.

The BRDI-1 form utilizes a booklet instrument that facilitates the collection of information from various contacts within each company who have the best understanding of the concepts and definitions being presented as well as access to the information necessary to provide the most accurate response. The sections of the booklet correspond to areas within the company and currently include: A company information section that includes detailed innovation questions; a financial section focused on company R&D expenses; a human resources section; an R&D strategy and management section; an IP and technology transfer section; and a section focused on R&D that is funded or paid for by third parties. A web instrument is also available to respondents. The web instrument for the BRDI-1 form incorporates Excel spreadsheets that are provided to facilitate the electronic collection of information from various areas of the companies. Respondents have the capability to download the spreadsheets from the Census Bureau's Web site. A consolidator spreadsheet is also available to assist companies that need to gather information from business units and then compile the information into one company report.

Domestic and foreign researchers in academia, business, and government analyze and cite data from the BRDIS. Among the federal government users are the Bureau of Economic Analysis (BEA) and the White House's Office of Science and Technology Policy (OSTP). BEA includes R&D in the system of national accounts that measures the economic well-being of the country. BRDIS data are key inputs into these accounts, which feed into the calculation of the U.S. Gross Domestic Product (GDP). The White House, in 2006, issued the American Competitiveness Initiative to “increase investments in research and development, strengthen education, and encourage entrepreneurship.” In support of this initiative and in response to legislative mandates, data on R&D are delivered to OSTP, primarily in the biennial National Science Board report Science and Engineering Indicators. Also, the National Science Foundation (NSF) produces a series of publications containing R&D data including the National Patterns of R&D Resources series, the S&E State Profile series, and the annual Business R&D and Innovation series. Special reports and other publications are also prepared.

II. Method of Collection

The Census Bureau will use a paperless strategy for the standard form (BRDI-1). Respondents will be mailed a letter referring them to the Census Bureau's Business Help Site where they can report online. Some companies selected for the screener form [BRDI-1(S)] will receive a letter only in initial mail out, directing them to report online. Others will receive a paper form in initial mailout that they can mail back. The microbusiness form (BRDI-M) is a mail out/mail back survey form. Respondents to all form types will have the option to report electronically. The due date for the standard form will be approximately 60 days from receipt. The due date for all other form types will be approximately 30 days from receipt.

III. Data

OMB Control Number: 0607-0912.

Form Number: BRDI-1, BRDI-1(S), and BRDI-M.

Type of Review: Regular submission.

Affected Public: All domestic, non-farm, for-profit (public or private) businesses with at least one paid employee.

Estimated Number of Respondents:

BRDI-1—(Standard Form) | 7,000
BRDI-1(S)—(Screener Form) | 38,000
BRDI-M—(Microbusiness Form) | 200,000
Total | 245,000

Estimated Time per Response:

BRDI-1—(Standard Form) | 14.85 hours.
BRDI-1(S)—(Screener Form) | 0.59 hours.
BRDI-M—(Microbusiness Form) | 0.25 hours.

Estimated Total Annual Burden Hours: 176,370.

Estimated Total Annual Cost: $0.

Respondent's Obligation: Mandatory.

Legal Authority: Title 13, United States Code, Sections 8(b), 131, and 182, and Title 42, United States Code, Sections 1861-76 (National Science Foundation Act of 1950, as amended).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 31, 2016
Glenna Mickelson,
Management Analyst, Office of the Chief Information Officer.

[FR Doc. 2016-21281 Filed 9-2-16; 8:45 am]

BILLING CODE 3510-07-P